DEPARTMENT OF COMMERCE

International Trade Administration

[Application No. 99-14A05]

Export Trade Certificate of Review

ACTION: Notice of Application To Amend the Export Trade Certificate of Review Issued to California Almond Export Association, LLC (“CAEA”), Application No. 99-14A05.

SUMMARY: The Secretary of Commerce, through the Office of Trade and Economic Analysis (“OTEA”) of the International Trade Administration, received an application for an amended Export Trade Certificate of Review (“Certificate”). This notice summarizes the proposed amendment and requests comments relevant to whether the Certificate should be issued.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. Sections 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(a), which requires the Secretary of Commerce to publish a summary of the application in the Federal Register, identifying the applicant and each member and summarizing the proposed export conduct.

Request for Public Comments

Interested parties may submit written comments relevant to the determination whether an amended Certificate should be issued. If the comments include any privileged or confidential business information, it must be clearly marked and a nonconfidential version of the comments (identified as such) should be included. Any comments not marked as privileged or confidential business information will be deemed to be nonconfidential.

An original and five (5) copies, plus two (2) copies of the nonconfidential version, should be submitted no later than 20 days after the date of this notice to: Office of Trade and Economic Analysis, International Trade Administration, U.S. Department of Commerce, Room 21028, Washington, DC 20230.

Information submitted by any person is exempt from disclosure under the Freedom of Information Act (5 U.S.C. 552). However, nonconfidential versions of the comments will be made available to the applicant if necessary for determining whether or not to issue the amended Certificate. Comments should refer to this application as “Export Trade Certificate of Review, application number 99-14A05.”

Summary of the Application

Applicant: CAEA

Contact: Deeana Estigarribia, DEstigarribia@BDGrowers.com

Application No.: 99-14A05

Date Deemed Submitted: June 22, 2021

Proposed Amendment: CAEA seeks to amend its Certificate by adding the following companies as Members of the Certificate within the meaning of section 325.2(1) of the Regulations (15 CFR 325.2(1)):

• Bear Nut Republic, Chico, CA

• JSS Almonds, LLC, Bakersfield, CA

• VF Marking Corporation DBA Vann Family Orchards, Williams, CA

CAEA's proposed amendment of its Certificate would result in the following Members list:

Almonds California Pride, Inc., Caruthers, CA

Baldwin-Minkler Farms, Orland, CA

Bear Nut Republic, Chico, CA

Blue Diamond Growers, Sacramento, CA

Campos Brothers, Caruthers, CA

Chico Nut Company, Chico, CA

Del Rio Nut Company, Livingston, CA

Fair Trade Corner, Inc., Chico, CA

Fisher Nut Company, Modesto, CA

Hilltop Ranch, Inc., Ballico, CA

Hughson Nut, Inc., Hughson, CA

JSS Almonds, LLC, Bakersfield, CA

Mariani Nut Company, Winters, CA

Nutco, LLC d.b.a. Spycher Brothers, Turlock, CA

Pearl Crop, Inc., Stockton, CA

P-R Farms, Inc., Clovis, CA

Roche Brothers International Family Nut Co., Escalon, CA

RPAC, LLC, Los Banos, CA

South Valley Almond Company, LLC, Wasco, CA

Stewart & Jasper Marketing, Inc., Newman, CA

SunnyGem, LLC, Wasco, CA

VF Marking Corporation DBA Vann Family Orchards, Williams, CA

Western Nut Company, Chico, CA

Wonderful Pistachios & Almonds, LLC, Los Angeles, CA

Dated: July 2, 2021.
Joseph Flynn,
Director, Office of Trade and Economic Analysis, International Trade Administration, U.S. Department of Commerce.

[FR Doc. 2021-14596 Filed 7-7-21; 8:45 am]

BILLING CODE 3510-DR-P